DEPARTMENT OF AGRICULTURE

Forest Service

Salmon-Challis National Forest Noxious Weed Environmental Impact Statement; Intent To Prepare a Draft Environmental Impact Statement (DEIS) for a Proposed Forest-Wide Noxious Weed Management Program

AGENCY: Forest Service, USDA.

ACTION: Notice of intent.

SUMMARY: The USDA, Forest Service is gathering information and preparing an Environmental Impact Statement (EIS) for a forest-wide noxious weed management program. The intent of this program is to: Protect the natural condition and biodiversity of ecosystems by preventing and/or limiting the introduction and subsequent spread of invasive, non-native plant species that displace native vegetation; eliminate new invaders before they become established; contain and reduce known and potential weed seed sources throughout the forest; prevent or limit the spread of established weeds into areas containing little or no infestation; protect sensitive and unique habitats including research natural areas, wetlands, riparian areas, and sensitive plant populations; and develop criteria to prioritize invasive weed species and treatment areas. Prioritization will be given to treating areas that may contribute to the spread of weeds into Lemhi, Custer, and Butte Counties within the Salmon-Challis National Forest (S-CNF).

SUPPLEMENTARY INFORMATION:

Background

The Salmon-Challis NF embraces Integrated Pest Management (IPM) practices (as defined in Forest Service Handbook 3409) in managing various pests, including noxious and invasive non-native weeds. This philosophy is predicated on the principle that a single management method will not be successful; but that implementing a fully integrated approach in weed management significantly improves the chances of a successful program. A variety of activities can be carried out under an IPM program and provides for a full range of management strategies, including prevention and public education.

Weeds can alter ecosystem processes, including productivity, decomposition, hydrology, nutrient cycling, and natural disturbance patterns such as frequency and intensity of wildfires. Changing these processes can lead to displacement of native plant species, eventually impacting wildlife and native plant habitat, recreational opportunities, natural hydrologic processes, and scenic beauty. The economic effects from the subsequent loss of productivity and resource values can be considerable.

The Draft EIS will focus on restoring native species and wildlife habitat while reducing runoff and erosion by containing and reducing weed infestations and seed sources throughout the forest, controlling the spread of existing weeds, and preventing the establishment of new weed species. This project will encompass portions of the S-CNF, with complete analysis expected by January 2003.

EIS Scope

Potential alternatives for weed management may include mechanical, biological, vegetative (e.g. seedings), controlled grazing, and ground-based and aerial herbicide applications. Methods of management will be evaluated based on environmental concerns, management restrictions, and site characteristics to ensure weed management activities are as successful as possible. The project area and analysis will encompass the entire Salmon-Challis National Forest excluding the Frank Church River of No Return Wilderness, an area of approximately 3,108,827 acres. Specific treatment areas may be throughout the project area and would include big game summer and winter range, roads, trails, trailheads, administrative sites, and other emphasis areas such as disturbed sites and high use areas. preliminary issues identified for analysis in the EIS include the potential effects and relationship of the project to human health risk, water quality, fisheries, native plant communities, wildlife habitat, soil productivity, recreation, scenery, heritage resources, and sensitive plants.

Public Involvement

The Forest Service intends to schedule at least three public information meetings before the close of the comment period. For the Forest Service to best use the scoping input, comments should be received by January 31, 2002.

Public participation will be an integral component of the study process, and will be especially important at several points during the analysis. The first is during the scoping process. The Forest Service will be seeking information, comments, and assistance from Federal, State, County, and local agencies, individuals, and organizations that may be interested in or affected by the proposed activities. The scoping process will include: (1) Identification of potential issues, (2) identification of issues to be analyzed in depth, (3) identification of alternatives and (4) elimination of non-significant issues or those that have been covered by previous environmental reviews. Written scoping comments will be solicited through a scoping package that will be sent to the project mailing list and local newspapers.

At this early stage, the Forest Service believes it is important to give reviewers notice of several court rulings related to public participation in the environmental review process. First, reviewers of Draft EIS's must structure their participation in the environmental review of the proposal, so that it is meaningful and alerts an agency to the reviewer's position and contentions. Vermont Yankee Nuclear Power Corp. v NRDC, 435 U.S. 519, 553, (1978). Also, environmental objections that could have been raised at the Draft EIS stage, but that are not raised until completion of the Final EIS, may be waived or dismissed by the courts. City of Angoon v. Hodel, 803 F.2nd 1016, 1022 (9th Cir. 1986) and Wisconsin Heritages, Inc. v. Harris, 490 F. Supp. 1334, 1338 (E.D. Wis. 1980). Because of these court rulings, it is very important that those interested in this proposed action participate by the close of the 45-day comment period on the Draft EIS, so that substantive comments and any objections are made available to the Forest Service at a time when they can be meaningfully considered and responded to in the Final EIS.

To assist the Forest Service in identifying and considering issues and concerns of the proposed action, comments on the Draft EIS should be as specific as possible. It is also helpful if comments refer to specific pages or chapters of the Draft EIS. Comments may address the adequacy of the Draft EIS, as well as the merits of the alternatives formulated and discussed in the Draft EIS. Reviewers may wish to refer to the Council on Environmental Quality Regulations for implementing the procedural provisions of the National Environmental Policy Act in 40 CFR 1503.3, in addressing these points.

DATES: Dates, times and locations of these meetings will be announced. Written comments concerning the scope of this project should be received by the Salmon-Challis National Forest by January 31, 2002.

ADDRESSES: Please send written comments to: Salmon-Challis National Forest, 50 Highway 93 South, Salmon, ID 83467. Attn: Lyle Powers, RE: Salmon-Challis NF Noxious Weed EIS.

FOR FURTHER INFORMATION CONTACT: Lyle Powers, Planning Staff Officer, telephone (208) 756-5557, E-mail: lepowers@fs.fed.us, or Bill Diage, Planning Team Ecologist, telephone (208) 756-5562, E-mail: wdiage@fs.fed.us, Salmon-Challis National Forest, 50 Highway 93 South, Salmon, ID 83467.

Permits/Authorizations: The proposed action will not require any site-specific amendments to the Salmon nor Challis National Forest Land and Resource Management Plans.

Responsible Official: George Matejko, Forest Supervisor, Salmon-Challis National Forest, is the responsible official. In making the decision, the responsible official will consider the comments; responses; disclosure of environmental consequences; and applicable laws, regulations, and policies. The responsible official will state the rationale for the chosen alternative in the Record of Decision.

Dated: December 7, 2001.
George Matejko,
Forest Supervisor.

[FR Doc. 01-30885 Filed 12-13-01; 8:45 am]

BILLING CODE 3410-11-M